DEPARTMENT OF TRANSPORTATION

Federal Aviation Administration

14 CFR Part 71

[Docket No. FAA-2015-4513; Airspace Docket No. 15-AEA-8]

Amendment of Class D and Class E Airspace; Hagerstown, MD

AGENCY: Federal Aviation Administration (FAA), DOT.

ACTION: Final rule, correction.

SUMMARY: This action corrects a final rule published in the Federal Register of September 23, 2016, amending Class E Airspace designated as an extension, and Class E airspace areas extending upward from 700 feet or more above the surface at Hagerstown Regional Airport-Richard A. Henson Field by correcting the geographic coordinates of the Hagerstown Regional Airport-Richard A. Henson Field ILS Runway 27 Localizer. This is an administrative change to coincide with the FAA's aeronautical database.

DATES: Effective 0901 UTC, November 10, 2016. The Director of the Federal Register approves this incorporation by reference action under title 1, Code of Federal Regulations, part 51, subject to the annual revision of FAA Order 7400.11 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

The Federal Register published a final rule amending Class E Airspace Designated as an Extension and Class E airspace areas extending upward from 700 feet or more above the surface at Hagerstown Regional Airport-Richard A. Henson Field, Hagerstown, MD (81 FR 65533, September 23, 2016) Docket No. FAA-2015-4513. Further review revealed the geographic coordinates for the Hagerstown Regional Airport-Richard A. Henson Field ILS Runway 27 Localizer did not match the FAA's charting information.

Class E airspace designations are published in paragraphs 6004 and 6005 of FAA Order 7400.11A dated August 3, 2016, and effective September 15, 2016, which is incorporated by reference in 14 CFR part 71.1. The Class E airspace designations listed in this document will be published subsequently in the Order.

Availability and Summary of Documents for Incorporation by Reference

This document amends FAA Order 7400.11A, Airspace Designations and Reporting Points, dated August 6, 2016, and effective September 15, 2016. FAA Order 7400.11A is publicly available as listed in the ADDRESSES section of this document. FAA Order 7400.11A lists Class A, B, C, D, and E airspace areas, air traffic service routes, and reporting points.

Correction to Final Rule

Accordingly, pursuant to the authority delegated to me, in the Federal Register of September 23, 2016 (81 FR 65533) FR Doc. FAA-2015-4513, Amendment of E Airspace for Hagerstown Regional Airport-Richard A. Henson Field, Hagerstown, MD, is corrected as follows:

§ 71.1 [Amended]

AEA MD E4 Hagerstown, MD [Corrected]

On page 65535, column 1, line 20, remove “(lat. 39°42′22″ N., long. 77°44′41″ W.)”, and add in its place, “(lat. 39°42′23″ N., long. 77°44′31″ W.)”;

AEA MD E5 Hagerstown, MD [Corrected]

On page 65535, column 1 line 50, remove “(lat. 39°42′22″ N., long. 77°44′41″ W.)”, and add in its place, “(lat. 39°42′23″ N., long. 77°44′31″ W.)”.

Issued in College Park, Georgia, on October 18, 2016.
Paul Lore,
Acting Manager, Operations Support Group, Eastern Service Center, Air Traffic Organization.

[FR Doc. 2016-25704 Filed 10-24-16; 8:45 am]

BILLING CODE 4910-13-P